DEPARTMENT OF TRANSPORTATION

Pipeline and Hazardous Materials Safety Administration

[Docket No. PHMSA-06-24044; Notice 2]

Pipeline Safety: Grant of Waiver; Dominion Transmission, Inc.

AGENCY: Pipeline and Hazardous Materials Safety Administration (PHMSA), DOT.

ACTION: Grant of Waiver; Dominion Transmission, Inc.

SUMMARY: Dominion Transmission, Inc. (DTI) requested a waiver of compliance from requirements for pipelines constructed after March 31, 2000. This waiver will allow DTI to use the most recent, 2006 National Fire Protection Association's (NFPA) 59A, “Standard for Production, Storage, and Handling of Liquefied Natural Gas” and comply with PHMSA's liquefied natural gas (LNG) facility safety regulations.

SUPPLEMENTARY INFORMATION:

Background

DTI requested a waiver from compliance of the regulatory requirements at 49 CFR 193.2301. This regulation requires each LNG facility constructed after March 31, 2000, to comply with 49 CFR part 193 and standard 59A (NFPA 59A). NFPA 59A requires that welded containers designed for not more than 15 pounds per square inch gauge comply with the 1990 Eighth Edition, of the American Petroleum Institute standard 620 (API 620), “Design and Construction of Large, Welded, Low-Pressure Storage Tanks (Appendix Q).” API 620 requires that examinations be performed using radiography to detect the type of flaws most susceptible in the design and construction of large welded low-pressure storage tanks.

DTI is proposing to use the 2006 Tenth Edition, Addendum 1, of API 620, instead of the currently used, 1990 Eighth Edition. This will allow ultrasonic examination as well as radiography as an acceptable alternative non-destructive testing method. The ultrasonic examination consists of full semi-automated and manual examination using shear wave probes, and volumetric examination using a combination of creep wave probes and focused angled longitudinal wave probes.

Findings

PHMSA considered DTI's waiver request and published a notice inviting interested persons to comment on whether a waiver should be granted (71 FR 13895; March 17, 2006). PHMSA received one comment in support of the waiver from the American Gas Association (AGA). AGA supports DTI's request for a waiver from 49 CFR 193.2301 and is confident that the 2006 Tenth Edition of API 620 will not reduce the integrity of the installation of large welded low-pressure storage tanks at LNG facilities.

Grant of Waiver

In its May 2005, Report on Comments, the NFPA 59A Committee “accepted in principle” the latest edition of API 620, Tenth Edition, Addendum 1. The Tenth Edition, Addendum 1, of API 620 adds ultrasonic examination as an acceptable method of examination. The proposed wording of the Tenth Edition, Addendum 1, of API 620 deletes “radiographic” inspection and replaces it with “complete” examination. In the Tenth Edition of API 620, “complete” examination is defined as radiographic or ultrasonic examination.

For the reasons explained above and in the Notice of March 17, 2006, PHMSA finds that the requested waiver is not inconsistent with pipeline safety and that an equivalent level of safety can be achieved. Therefore, DTI's request for waiver of compliance with § 193.2301 is granted for its LNG facility in Lusby, MD.

Authority: 49 U.S.C. 60118 (c) and 49 CFR 1.53.

Issued in Washington, DC on May 18, 2006.
Theodore L. Willke,
Deputy Associate Administrator for Pipeline Safety.

[FR Doc. E6-7955 Filed 5-23-06; 8:45 am]

BILLING CODE 4910-60-P